DEPARTMENT OF LABOR

Employment and Training Administration

Proposed Information Collection Request; Submitted for Public Comment and Recommendations; Program Year (PY) 2002 and PY 2003 Workforce Information Core Products and Services Grants

ACTION: Notice.

SUMMARY: The Department of Labor (DOL), as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. PRA95 helps to ensure that requested data can be provided in the desired format, reporting burden (time and financial resources) is minimized, collection instruments are clearly understood, and the impact of collection requirements on respondents can be properly assessed.

DATES: Submit comments on or before July 12, 2004.

ADDRESSES: Send comments to Mr. Anthony Dais, Chief, Division of USES/ALMIS, Office of Workforce Investment, Employment and Training Administration, 200 Constitution Ave., NW., Rm. S-4231, Washington, DC 20210, 202-693-2784 (this is not a toll-free number) or dais.anthony@dol.gov.

FOR FURTHER INFORMATION CONTACT: Mr. Olaf Bjorklund, Division of USES/ALMIS, Office of Workforce Investment, Employment and Training Administration, 200 Constitution Ave., NW., Rm. S-4231, Washington, DC 20210, 202-693-2870 (this is not a toll-free number) or bjorklund.olaf@dol.gov.

SUPPLEMENTARY INFORMATION:

I. Background

Section 15 of the Wagner-Peyser Act as amended by Section 309 of the Workforce Investment Act of 1998 (Public Law 105-220), requires state agencies to consult with customers about the relevance of the information disseminated through the statewide employment statistics system, in order to continuously improve the system. To carry out this requirement and to increase accountability for the expenditure of grant funds for workforce information, the Employment and Training Administration (ETA) submitted an Information Collection Request (ICR) to the Office of Management and Budget (OMB) on August 15, 2002, proposing that beginning in PY 2002, a condition for receiving grant funds would be a requirement that states conduct an assessment of customer satisfaction with state produced workforce information products and services and include a summary of the results of the assessment and a description of any actions to be taken to improve the system in a required annual performance report.

States were also required to provide additional narrative in the annual grant plan, describing the statewide employment statistics system and how the system supports the State's WIA/Wagner-Peyser Five Year Strategic Plan, and a description of the state's planned strategy for assessing customer satisfaction with state produced workforce information. The OMB approved the information collection for 390 days on November 5, 2002, with an expiration date of December 31, 2003. OMB has granted an extension of the expiration date to June 30, 2004.

II. Desired Focus of Comments

Currently, the ETA is soliciting comments concerning the proposed continuation of the collection of information for the reporting requirements specified in the PY 2002 Workforce Information Core Products and Services Planning Guidance, issued on January 9, 2003. The same PY 2002 information collection requirements are also required by the PY 2003 Workforce Information Core Products and Services Planning Guidance, issued on October 15, 2003. Comments should:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed continuation of the ICR can be obtained by contacting the office listed above in the addressee section of this notice.

III. Current Actions

Type of Review: Extension.

Agency: Employment and Training Administration.

Title: PY 2002 and PY 2003 Workforce Information Core Products and Services grants.

OMB Number: 1205-0417.

Affected Public: States.

Activity | Respondents | Responses | Total | Hours | Proposed burden | Approved burden | Difference
Annual Plan | 54 | 1 | 54 | 42 | 2,268 | 3,510 | (1,242)
Annual Report | 54 | 1 | 54 | 39 | 2,106 | 3,078 | (972)
Customer Satisfaction | 54 | 1 | 54 | 292 | 15,768 | 34,668 | (18,900)
Respondents Burden | 54 | 1 | 54 | 204 | 11,016 | 5,400 | 5,616
Totals | 54 | 4 | 216 | 577 | 31,158 | 46,656 | (15,498)

Total Burden Cost (capital/startup): $0.

Total Burden Cost (operating/maintaining): $0.

Comments submitted in response to this comment request will be summarized and/or included in the request for OMB approval of the information collection request; they will also become a matter of public record.

Dated: May 5, 2004.
Grace A. Kilbane,
Administrator, Office of Workforce Investment.

[FR Doc. 04-10756 Filed 5-11-04; 8:45 am]

BILLING CODE 4510-30-P